DEPARTMENT OF ENERGY

Federal Energy Regulatory Commission

[Docket No. RP99-301-068]

ANR Pipeline Company; Notice of Negotiated Rate Filing

March 12, 2003.

Take notice that on March 7, 2003, ANR Pipeline Company (ANR), tendered for filing a notification to the Commission of a change in the termination date of a Firm Storage Service Agreement and certain associated transportation agreements.

ANR states that the notice and associated agreement reflect that the negotiated rate agreement between ANR and Reliant Energy Marketing Services, Inc. and all underlying service will be terminated on April 1, 2003 instead of March 31, 2004.

Any person desiring to be heard or to protest said filing should file a motion to intervene or a protest with the Federal Energy Regulatory Commission, 888 First Street, NE., Washington, DC 20426, in accordance with sections 385.314 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: March 19, 2003.

Magalie R. Salas,
Secretary.

[FR Doc. 03-6542 Filed 3-18-03; 8:45 am]

BILLING CODE 6717-01-P